DEPARTMENT OF ENERGY

Federal Energy Regulatory Commission

Combined Notice of Filings #1

Take notice that the Commission received the following exempt wholesale generator filings:

Docket Numbers: EG23-219-000.

Applicants: Oak Ridge Solar, LLC.

Description: Oak Ridge Solar, LLC submits Notice of Self-Certification of Exempt Wholesale Generator Status.

Filed Date: 6/29/23.

Accession Number: 20230629-5168.

Comment Date: 5 p.m. ET 7/20/23.

Take notice that the Commission received the following electric rate filings:

Docket Numbers: ER23-629-002.

Applicants: Public Service Company of Colorado.

Description: Compliance filing: 2023-6-30 Att N—Compliance Filing, LGIP changes to be effective 6/3/2023.

Filed Date: 6/30/23.

Accession Number: 20230630-5042.

Comment Date: 5 p.m. ET 7/21/23.

Docket Numbers: ER23-1721-001.

Applicants: Duke Energy Florida, LLC.

Description: Compliance filing: Compliance Filing—Revisions to Rate Schedule No. 86 to be effective 5/1/2023.

Filed Date: 6/30/23.

Accession Number: 20230630-5152.

Comment Date: 5 p.m. ET 7/21/23.

Docket Numbers: ER23-1760-001.

Applicants: Guernsey Power Station LLC.

Description: Tariff Amendment: Response to Deficiency Letter to be effective 6/1/2023.

Filed Date: 6/30/23.

Accession Number: 20230630-5140.

Comment Date: 5 p.m. ET 7/21/23.

Docket Numbers: ER23-2305-000.

Applicants: New York State Electric & Gas Corporation.

Description: § 205(d) Rate Filing: NYSEG-NYPA Attachment C—O&M Annual Update to be effective 9/1/2023.

Filed Date: 6/29/23.

Accession Number: 20230629-5137.

Comment Date: 5 p.m. ET 7/20/23.

Docket Numbers: ER23-2306-000.

Applicants: Stanton Energy Reliability Center, LLC.

Description: § 205(d) Rate Filing: Shared Facilities & Generator Interconnection Co-Tenancy Agrmts. w/Waivers to be effective 6/5/2023.

Filed Date: 6/29/23.

Accession Number: 20230629-5148.

Comment Date: 5 p.m. ET 7/20/23.

Docket Numbers: ER23-2307-000.

Applicants: Northern States Power Company, a Wisconsin corporation.

Description: § 205(d) Rate Filing: 2023-6-29 DPC Structure Sharing Agmt 167-NSPW to be effective 6/30/2023.

Filed Date: 6/29/23.

Accession Number: 20230629-5152.

Comment Date: 5 p.m. ET 7/20/23.

Docket Numbers: ER23-2308-000.

Applicants: Stanton Battery Energy Storage, LLC.

Description: § 205(d) Rate Filing: Shared Facilities & Generator Interconnection Co-Tenancy Agrmts. w/Waivers to be effective 6/5/2023.

Filed Date: 6/29/23.

Accession Number: 20230629-5153.

Comment Date: 5 p.m. ET 7/20/23.

Docket Numbers: ER23-2309-000.

Applicants: DCR Transmission, L.L.C.

Description: Baseline eTariff Filing: DCR Transmission Request for TO and TRBAA Acceptance to be effective 3/8/2024.

Filed Date: 6/30/23.

Accession Number: 20230630-5000.

Comment Date: 5 p.m. ET 7/21/23.

Docket Numbers: ER23-2310-000.

Applicants: New York State Electric & Gas Corporation.

Description: § 205(d) Rate Filing: Rate Schedule FERC No. 87 Supplement to be effective 9/1/2023.

Filed Date: 6/30/23.

Accession Number: 20230630-5034.

Comment Date: 5 p.m. ET 7/21/23.

Docket Numbers: ER23-2311-000.

Applicants: Midcontinent Independent System Operator, Inc.

Description: § 205(d) Rate Filing: 2023-06-30_Attachment MM & Schedule 26A Revisions RE Cost Recovery for MVPs to be effective 8/30/2023.

Filed Date: 6/30/23.

Accession Number: 20230630-5067.

Comment Date: 5 p.m. ET 7/21/23.

Docket Numbers: ER23-2312-000.

Applicants: Deseret Generation & Transmission Co-operative, Inc.

Description: § 205(d) Rate Filing: 2023 RIA Annual Update to be effective 7/1/2023.

Filed Date: 6/30/23.

Accession Number: 20230630-5079.

Comment Date: 5 p.m. ET 7/21/23.

Docket Numbers: ER23-2313-000.

Applicants: NorthWestern Corporation.

Description: § 205(d) Rate Filing: RS 188—Revised Colstrip 1 &amp; 2 Transmission Agreement to be effective 9/1/2023.

Filed Date: 6/30/23.

Accession Number: 20230630-5080.

Comment Date: 5 p.m. ET 7/21/23.

Docket Numbers: ER23-2314-000.

Applicants: Consolidated Edison Company of New York, Inc.

Description: § 205(d) Rate Filing: PASNY CE Hub and Order 2222 to be effective 7/1/2023.

Filed Date: 6/30/23.

Accession Number: 20230630-5115.

Comment Date: 5 p.m. ET 7/21/23.

Docket Numbers: ER23-2315-000.

Applicants: Upper Missouri G. & T. Electric Cooperative, Inc.

Description: § 205(d) Rate Filing: Submission of Revised Wholesale Power Contracts (Nos. 3 and 4) (6.30.23) to be effective 9/1/2023.

Filed Date: 6/30/23.

Accession Number: 20230630-5120.

Comment Date: 5 p.m. ET 7/21/23.

Docket Numbers: ER23-2316-000.

Applicants: PJM Interconnection, L.L.C.

Description: § 205(d) Rate Filing: Ministerial Clean-Up, Tariff, Schedule 9 to be effective 2/1/2023.

Filed Date: 6/30/23.

Accession Number: 20230630-5125.

Comment Date: 5 p.m. ET 7/21/23.

Docket Numbers: ER23-2317-000.

Applicants: Doc Brown LLC.

Description: § 205(d) Rate Filing: Normal filing 2023 category status change to be effective 7/1/2023.

Filed Date: 6/30/23.

Accession Number: 20230630-5129.

Comment Date: 5 p.m. ET 7/21/23.

Docket Numbers: ER23-2318-000.

Applicants: Vermont Transco LLC.

Description: § 205(d) Rate Filing: Annual Exhibit A Information Filing for the 1991 Transmission Agreement to be effective 7/1/2023.

Filed Date: 6/30/23.

Accession Number: 20230630-5132.

Comment Date: 5 p.m. ET 7/21/23.

Docket Numbers: ER23-2319-000.

Applicants: New England Power Pool Participants Committee.

Description: § 205(d) Rate Filing: Jul 2023 Membership Filing to be effective 6/1/2023.

Filed Date: 6/30/23.

Accession Number: 20230630-5133.

Comment Date: 5 p.m. ET 7/21/23.

Docket Numbers: ER23-2320-000.

Applicants: Tri-State Generation and Transmission Association, Inc.

Description: § 205(d) Rate Filing: Initial Filing of Rate Schedule FERC No. 357 to be effective 8/29/2023.

Filed Date: 6/30/23.

Accession Number: 20230630-5137.

Comment Date: 5 p.m. ET 7/21/23.

Docket Numbers: ER23-2321-000.

Applicants: Dunns Bridge Energy Storage, LLC.

Description: Baseline eTariff Filing: Dunns Bridge Energy Storage, LLC Application for Market-Based Rate Authority to be effective 8/30/2023.

Filed Date: 6/30/23.

Accession Number: 20230630-5150.

Comment Date: 5 p.m. ET 7/21/23.

Docket Numbers: ER23-2322-000.

Applicants: Alabama Power Company.

Description: Compliance filing: Amendment to Southern's Tariff Vol. No. 4 to remove TAL and JEA BAA Mitigation to be effective 12/31/9998.

Filed Date: 6/30/23.

Accession Number: 20230630-5163.

Comment Date: 5 p.m. ET 7/21/23.

Docket Numbers: ER23-2323-000.

Applicants: Southwest Power Pool, Inc.

Description: § 205(d) Rate Filing: 2900R21 KMEA NITSA NOA to be effective 9/1/2023.

Filed Date: 6/30/23.

Accession Number: 20230630-5181.

Comment Date: 5 p.m. ET 7/21/23.

Docket Numbers: ER23-2324-000.

Applicants: Cavalry Energy Center, LLC.

Description: Baseline eTariff Filing: Cavalry Energy Center, LLC Application for Market-Based Rate Authority to be effective 8/30/2023.

Filed Date: 6/30/23.

Accession Number: 20230630-5195.

Comment Date: 5 p.m. ET 7/21/23.

Docket Numbers: ER23-2325-000.

Applicants: PJM Interconnection, L.L.C.

Description: § 205(d) Rate Filing: Original ISA, Service Agreement No. 6975; Queue No. AE2-020, AE2-021, AE2-022 to be effective 5/31/2023.

Filed Date: 6/30/23.

Accession Number: 20230630-5223.

Comment Date: 5 p.m. ET 7/21/23.

Take notice that the Commission received the following electric securities filings:

Docket Numbers: ES23-53-000.

Applicants: NorthWestern Corporation.

Description: Application Under Section 204 of the Federal Power Act for Authorization to Issue Securities of NorthWestern Corporation.

Filed Date: 6/29/23.

Accession Number: 20230629-5167.

Comment Date: 5 p.m. ET 7/20/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 30, 2023.
Kimberly D. Bose,
Secretary.

[FR Doc. 2023-14348 Filed 7-6-23; 8:45 am]

BILLING CODE 6717-01-P